NATIONAL SCIENCE FOUNDATION

Advisory Panel for Integrative Activities, #1373; Notice of Meeting

In accordance with the Federal Advisory Committee Act (Pub. L. 92-463, as amended), the National Science Foundation announces the following meeting.

Name: Ad Hoc Panel Review of the 5-Year Science and Technology Policy Institute Contract.

Date/Time: August 22-24, 2012; 8:30 a.m.-5 p.m., EDT.

Places: National Science Foundation, 4201 Wilson Boulevard, Room 1235, Arlington, VA.

Science and Technology Policy Institute (STPI), 1899 Pennsylvania Avenue NW., Washington, DC.

Office of Science and Technology Policy (OSTP), Old Executive Office Building, Washington, DC.

Type of Meeting: Part-Open.

Contact Person: Susan G. Hamm, National Science Foundation, 4201 Wilson Boulevard, Room 1005, Arlington, VA 22230. Email: shamm@nsf.gov.

Purpose of Meeting: Five-year review of the Federally Funded Research and Development Center (FFRDC) as mandated by the Federal Acquisition Regulations and to provide advice and recommendations on future STPI support.

Agenda:

Wednesday, August 22, 2012 (Open)

National Science Foundation, Room 1235

9 a.m.-5:15 p.m. Overview and history of FFRDC; Briefings and Panel Discussions.

Thursday, August 23, 2012 (Closed)

White House Conference Center

8:15 a.m.-2 p.m. Briefings, Review, and Panel Discussion of Contract.

National Science Foundation Room 1235

2 p.m.-6 p.m. Agency Task Presentations, Review, and Evaluation.

Friday, August 24, 2012 (Closed)

National Science Foundation, Room 1235

9 a.m.-2:30 p.m. Panel Discussions/Writing and Debriefing.

Reason for Closing: The contract being reviewed includes information of a proprietary or confidential nature, including technical information; financial data, such as salaries; and personal information concerning individuals associated with the contract. Discussions will include the development of negotiating and implementing strategies. These matters are exempt under (4), (6), and (9)(B) of 5 U.S.C. 552b(c), the Government in the Sunshine Act.

Dated: August 3, 2012.
Susanne Bolton,
Committee Management Officer.

[FR Doc. 2012-19459 Filed 8-9-12; 8:45 am]

BILLING CODE 7555-01-M